ENVIRONMENTAL PROTECTION AGENCY

[FRL-6839-5]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1803.03; Drinking Water State Revolving Fund Programs; was approved 06/07/2000; OMB No. 2040-0185; expires 06-30-2003.

EPA ICR No. 1648.02; Control Technology Determination for Equivalent Emissions Limitations by Permit; in 40 CFR part 63, subpart B; was approved 02/03/2000; OMB No. 2060-0266; expires 11/30/2000.

EPA ICR No. 1060.10; NSPS for Steel Plants: Electric Arc Furances an Argon-Oxygen Decarburization Vessels; in 40 CFR part 60, subpart AA and AAa; was approved 06/15/2000; OMB No. 2060-0038; expires 06/30/2003.

EPA ICR No. 1061.08; NSPS for Phosphate Fertilizer Industry; in 40 CFR part 60, subpart T, U, V, W, and X; was approved 06/15/2000; OMB No. 2060-0037; expires 06/30/2003.

EPA ICR No. 1084.06; NSPS for Nonmetallic Mineral Processing; in 40 CFR part 60, subpart 000; was approved 06/15/2000; OMB No. 2060-0050; expires 06/30/2003.

EPA ICR No. 1157.06; NSPS for Flexible Vinyl and Urethane Coating and Printing; in 40 CFR part 60, subpart FFF; was approved 06/14/2000; OMB No. 2060-0073; expires 06/30/2003.

EPA ICR No. 1764.02; Reporting and Recordkeeping Requirements for National Volatile Organic Compound Emission Standards for Consumer Products; in 40 CFR part 59, subpart C; was approved 06/14/2000; OMB No. 2060-0348; expires 06/30/2003.

EPA ICR No. 1696.03; Registration of Fuels and Fuel Additives: Health-Effects Research Requirements for Manufacturres; in 40 CFR part 79, subpart F; was approved 05/25/2000; OMB No. 2060-0297; expires 05/31/2003.

EPA ICR No. 1072.06; NSPS for Lead-Acid Battery Manufacturing; in 40 CFR part 60, subpart KK; was approved 06/14/2000; OMB No. 2060-0081; expires 06/30/2003.

EPA ICR No. 0113.07; National Emission Standards for Mercury-NESHAP; in 40 CFR part 61; subpart E; was approved 06/14/2000; OMB No. 2060-0097; expires 06/30/2003.

EPA ICR No. 1178.05; Standards of Performance of Volatile Organic Compound (VOC) Emissions from the Synthetic Organic Chemical Manufacturing Industry (SOCMI), Reactor Processes; in 40 CFR part 60.700, subpart RRR; was approved 06/14/2000; OMB No. 2060-0269; expires 06/30/2003.

EPA ICR No. 1128.06; NSPS for Secondary Lead Smelters; in 40 CFR part 60, subpart L; was approved 06/14/2000; OMB No. 2060-0080; expires 06/30/2003.

Action Withdrawn

EPA ICR No. 0276.09; Application for Experimental Use Permit (EUP) to Ship and Use a Pesticide for Experimental Purposes Only; in 40 CFR part 172; OMB No. 2070-0040; this ICR was withdrawn from OMB 06/19/2000 by EPA.

Extensions of Expiration Dates

EPA ICR No. 1001.06; Polychlorinated Biphenyls (PCBs) Exclusions, Exemptions, and Use Authorizations; in 40 CFR part 761; OMB No. 2070-0008; on 02/29/2000 OMB extended the expiration date through 08/31/2000.

EPA ICR No. 1665.02; Confidentiality Claims; in 40 CFR part 2, subpart B; OMB No. 2020-0003; on 05/15/2000 OMB extended the expiration date through 08/31/2000.

EPA ICR No. 1550.02; Conflict of Interest; in 40 CFR part 268.6; OMB No. 2030-0023; on 05/10/2000 OMB extended the expiration date through 11/30/2000.

EPA ICR No. 1353.05; Land Disposal Restrictions “No-Migration” Variances; in 40 CFR part 268.6; OMB No. 2050-0062; on 05/18/2000 OMB extended the expiration date through 08/31/2000.

EPA ICR No. 1064.08; NSPS for Automobile and Light Duty Truck Surface Coating Operations; in 40 CFR part 60, subpart MM; OMB No. 2060-0034; on 06/16/2000 OMB extended the expiration date through 09/30/2000.

EPA ICR No. 0309.09; Registration of Fuels and Fuel Additives: Requirements for Manufacturers; in 40 CFR part 79; OMB No. 2060-0150; on 06/15/2000 OMB extended the expiration date through 09/30/2000.

EPA ICR No. 1414.03; NESHAP for Hazardous Organic (HON); in 40 CFR part 63.3 through 63.192; OMB No. 2060-0282; on 05/23/2000 OMB extended the expiration date through 11/30/2000.

EPA ICR No. 1132.05; NSPS for Volatile Organic Liquid Storage Vessels; in 40 CFR part 60, subpart Kb; OMB No. 2060-0074; on 05/24/2000 OMB extended the expiration date through 11/30/2000.

EPA ICR No. 1713.03; Federal Operations Permit Program of the Clean Air Act; in 40 CFR part 71, Title V; OMB No. 2060-0336; on 05/11/2000 OMB extended the expiration date through 10/31/2000.

EPA ICR No. 1093.05; NSPS for the Surface Coating of Plastic Parts for Business Machines; in 40 CFR part 60, subpart TTT; OMB No. 2060-0162; on 05/11/2000 OMB extended the expiration date through 08/31/2000.

EPA ICR No. 1655.03; Gasoline Detergent Certification Program (Final Rule); OMB No. 2060-0275; on 04/26/2000 OMB extended the expiration date through 9/30/2000.

EPA ICR No. 1783.01; National Emission Standards for Hazardous Air Pollutants for Flexible Polyurethane Foam Production; in 40 CFR part 63, subpart III; OMB No. 2060-0357; on 04/26/2000 OMB extended the expiration date through 08/31/2000.

EPA ICR No. 1012.06; Polychlorinated Biphenyls (PCBs) Disposal Permitting Regulation; in 40 CFR parts 761.60, .70 and .75; OMB No. 2070-0011; on 06/08/2000 OMB extended the expiration date through 12/31/2000.

EPA ICR No. 1139.05; TSCA Section 4 Test Rules, Consent Orders and Test Rule Exemptions; in 40 CFR part 790; OMB No. 2070-0033; on 05/30/2000 OMB extended the expiration date through 08/31/2000.

EPA ICR No. 0616.06; Compliance Requirement for the Child-Resistant Packaging Act; in 40 CFR part 157; OMB No. 2070-0050; on 05/30/2000 OMB extended the expiration date through 08/31/2000.

EPA ICR No. 1710.02; Residential Lead-Based Paint Hazard Disclosure Requirements; in 40 CFR part 745; OMB No. 2070-0151; on 05/30/2000 OMB extended the expiration date through 08/31/2000.

EPA ICR No. 1715.02; TSCA Section 402 and Section 404 Training and Certification, Accreditation, and Standards for Lead-Based Paint Activities; in 40 CFR part 745; OMB No. 2070-0155; on 05/30/2000 OMB extended the expiration date through 8/31/2000.

EPA ICR No. 0857.07; Polchlorinated Biphenyls (PCBs): Manufacturing, Processing, and Distribution in Commerce Exemptions; in 40 CFR part 750; OMB No. 2070-0021; on 05/24/2000 OMB extended the expiration date through 11/30/2000.

EPA ICR No. 1672.02; Request for Information for Bioremediation Field Initiative; OMB No. 2080-0048; on 05/18/2000 OMB extended the expiration date through 08/31/2000.

Dated: July 11, 2000.
Oscar Morales,
Director, Collection Strategies Division.

[FR Doc. 00-18637 Filed 7-21-00; 8:45 am]

BILLING CODE 6560-50-M